DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: National Oceanic and Atmospheric Administration's Papahanaumokuakea Marine National Monument and University of Hawaii Research Internship Program.

OMB Control Number: 0648-0719.

Form Number(s): None.

Type of Request: Regular (extension of a currently approved information collection).

Number of Respondents: 80.

Average Hours per Response: 1 hour or less, for each application, reference letter and support letter.

Burden Hours: 80.

Needs and Uses: This request is for extension of a currently approved information collection.

The National Oceanic and Atmospheric Administration's (NOAA's) Papahānaumokuākea Marine National Monument (PMNM) would like to collect student data and information for the purposes of selecting candidates for its research internship program in partnership with the University of Hawaii. The application package would contain: (1) A form requesting information on academic background and professional experiences, (2) reference forms in support of the internship application by two educational or professional references, and (3) a support letter from one academic professor or advisor.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 8, 2018.
Sarah Brabson,
NOAA PRA Clearance Officer.

[FR Doc. 2018-14889 Filed 7-11-18; 8:45 am]

BILLING CODE 3510-NK-P